COMMITTEE FOR PURCHASE FROM PEOPLE WHO ARE BLIND OR SEVERELY DISABLED

Procurement List; Proposed Additions and Deletions

AGENCY: Committee for Purchase from People Who Are Blind or Severely Disabled.

ACTION: Proposed additions to and deletions from procurement list.

SUMMARY: The Committee is proposing to add to the Procurement List products and a service to be furnished by nonprofit agencies employing persons who are blind or have other severe disabilities, and to delete products previously furnished by such agencies.

Comments Must be Received on or Before: November 2, 2003.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 46-48c) in connection with the products and service proposed for addition to the Procurement List. Comments on this certification are invited.

Commenters should identify the statement(s) underlying the certification on which they are providing additional information.

End of Certification

The following products and service are proposed for addition to Procurement List for production by the nonprofit agencies listed:

Products

Product/NSN: CD/DVD Label Kit and Refills,

7530-00-NIB-0660 (Kit)

7530-00-NIB-0688 (Refill)

NPA: North Central Sight Services, Inc., Williamsport, Pennsylvania

Contract Activity: Office Supplies & Paper Products Acquisition Center, New York, New York.

Product/NSN: Dustpan and Brush Set

M.R. 1020

NPA: The Lighthouse for the Blind, Inc. (Seattle Lighthouse), Seattle, Washington

Contract Activity: Defense Commissary Agency (DeCA), Ft. Lee, VA

Product/NSN: GOJO/SKILCRAFT Hair & Body Shampoo

8520-00-NIB-0028, 800 mL

8520-00-NIB-0029, 2000 mL

8520-00-NIB-0066, 1000 mL

Product/NSN: GOJO/SKILCRAFT Lotion Hand Soap

8520-00-NIB-0012, 12 oz.

8520-00-NIB-0024, 800 mL

8520-00-NIB-0025, 2000 mL

8520-00-NIB-0065, 1000 mL

Product/NSN: GOJO/SKILCRAFT Natural Orange Hand Cleaner with Pumice

8520-00-NIB-0069, .5 Gal

8520-00-NIB-0070, 1 Gal

Product/NSN: MICRELL/SKILCRAFT Antibacterial Hand Soap

8520-00-NIB-0010, 800 mL

8520-00-NIB-0027, 2000 mL

8520-00-NIB-0067, 1000 mL

Product/NSN: PURELL/SKILCRAFT Instant Hand Sanitizer

8520-00-NIB-0008, 800 mL

8520-00-NIB-0017, 2 oz.

8520-00-NIB-0058, 1000 mL

Product/NSN: PURELL/SKILCRAFT Instant Hand Sanitizer with Aloe 8520-00-NIB-0060, 4.25 oz.

8520-00-NIB-0061, 12 oz.

8520-00-NIB-0062, 800 mL

8520-00-NIB-0063, 1000 mL

Product/NSN: GOJO/SKILCRAFT Wall Dispenser

4510-00-NIB-0001, 800 mL

4510-00-NIB-0002, 2000 mL

4510-00-NIB-0003, 1000 mL

4510-00-NIB-0007, 1000 mL

4510-00-NIB-0008, 800 mL

4510-00-NIB-0009, 2000 mL

Product/NSN: PURELL/SKILCRAFT Wall Dispenser

4510-00-NIB-0005, 1000 mL

4510-00-NIB-0006, 1000 mL

NPA: Travis Association for the Blind, Austin, Texas

Contract Activity: Office Supplies & Paper Products Acquisition Center, New York, New York

Product/NSN: Hydration On-the-Move System

8465-00-NIB-0071, Bravo 70 oz Woodland

8465-00-NIB-0072, Bravo 70 oz Desert

8465-00-NIB-0073, Bravo 70 oz Black Night Ops

8465-00-NIB-0074, Delta 100 oz Woodland

8465-00-NIB-0075, Delta 100 oz Desert

8465-00-NIB-0076, Delta 100 oz Black Night Ops

8465-00-NIB-0077, Alpha 120 oz Woodland

8465-00-NIB-0078, Alpha 120 oz Desert

8465-00-NIB-0079, Alpha 120 oz Black Night Ops

8465-00-NIB-0092, Warrior 100 oz Woodland

8465-00-NIB-0093, Warrior 100 oz Desert

8465-00-NIB-0094, Warrior 100 oz Black Night Ops

8465-00-NIB-0095, Sierra 100 oz Woodland

8465-00-NIB-0096, Sierra 100 oz Desert

8465-00-NIB-0097, Sierra 100 oz Black Night Ops

Product/NSN: Canteen, One Quart, Flexible

8465-00-NIB-0041, Echo 1 qt

NPA: The Lighthouse for the Blind, Inc. (Seattle Lighthouse), Seattle, Washington

Contract Activity: Office Supplies & Paper Products Acquisition Center, New York, New York

Product/NSN: Safety-Walk, Tapes & Treads

7220-00-NIB-0022, 710 Black Coarse Tape

7220-00-NIB-0031, 710 Black Coarse Tape

7220-00-NIB-0032, 610 Black General Purpose

7220-00-NIB-0046, 630 Yellow General Purpose

7220-00-NIB-0053, 510 Black Conformable

7220-00-NIB-0054, 510 Black Conformable

7220-00-NIB-0061, 530 Yellow Conformable

7220-00-NIB-0065, 310 Black Medium Resilient

7220-00-NIB-0075, 370 Gray Medium Resilient

7220-00-NIB-0136, 710 Black Coarse Tape

7220-00-NIB-0137, 610 Black General Purpose

7220-00-NIB-0138, 620 Clear General Purpose

7220-00-NIB-0139, 630 Yellow General Purpose

7220-00-NIB-0140, 660 Brown General Purpose

7220-00-NIB-0141, 510 Black Conformable

7220-00-NIB-0142, 520 Yellow Conformable

7220-00-NIB-0143, 310 Black Medium Resilient

7220-00-NIB-0144, 370 Gray Medium Resilient

NPA: Louisiana Association for the Blind, Shreveport, Louisiana

Contract Activity: Office Supplies & Paper Products Acquisition Center, New York, New York.

Service

Service Type/Location: Grounds Maintenance, Darnall Army Community Hospital/Clinics (Buildings 420, 2242, 2245, 2255, 2250, 7015, 9440, 56503, 4222, 33001, 33003, 39033, 4441, 4909, 76022, 90043, 36000, 36001, 36007, 36014, 36017) Fort Hood, Texas

NPA: Professional Contract Services, Inc., Austin, Texas

Contract Activity: III Corps and Fort Hood Contracting Command, Fort Hood, Texas

Deletions

Regulatory Flexibility Act Certification

I certify that the following action will not have a significant impact on a substantial number of small entities. The major factors considered for this certification were:

1. If approved, the action will not result in any additional reporting, recordkeeping or other compliance requirements for small entities.

2. If approved, the action will result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Product/NSN: Cleaner, Water Soluble

6840-01-367-2913

7930-01-367-2964

7930-01-367-2967

7930-01-367-2968

7930-01-367-2970

NPA: Association for the Blind & Visually Impaired & Goodwill Industries of Greater Rochester, Rochester, New York

Contract Activity: GSA, Southwest Supply Center, Fort Worth, Texas

Product/NSN: Clipboard File

7520-01-439-3404

NPA: Industries of the Blind, Inc., Greensboro, North Carolina

Contract Activity: Office Supplies & Paper Products Acquisition Center, New York, New York

Sheryl D. Kennerly,
Director, Information Management.

[FR Doc. 03-25156 Filed 10-2-03; 8:45 am]

BILLING CODE 6353-01-P